DEPARTMENT OF COMMERCE

Bureau of Industry and Security

Information Systems Technical Advisory Committee; Notice of Meeting

The Information Systems Technical Advisory Committee (ISTAC) will meet on July 28 and 29, 2021, at 1:00 p.m., Eastern Daylight Time. The meetings will be available via teleconference. The Committee advises the Office of the Assistant Secretary for Export Administration on technical questions that affect the level of export controls applicable to information systems equipment and technology.

Wednesday, July 28

Open Session

1. Welcome and Announcements

2. Working Group Reports

3. New Business

Thursday, July 29:

Closed Session

4. Discussion of matters determined to be exempt from the provisions relating to public meetings found in 5 U.S.C. app. 2 §§ 10(a)(1) and 10(a)(3).

The open session will be accessible via teleconference. To join the conference, submit inquiries to Ms. Yvette Springer at Yvette.Springer@bis.doc.gov, no later than July 21, 2021.

To the extent time permits, members of the public may present oral statements to the Committee. The public may submit written statements at any time before or after the meeting. However, to facilitate distribution of public presentation materials to Committee members, the Committee suggests that public presentation materials or comments be forwarded before the meeting to Ms. Springer.

For more information, call Yvette Springer at (202) 482-2813.

Yvette Springer,
Committee Liaison Officer.

[FR Doc. 2021-14959 Filed 7-13-21; 8:45 am]

BILLING CODE 3510-JT-P